PEACE CORPS

Information Collection Request; Submission for OMB Review

AGENCY: Peace Corps.

ACTION: 30-day notice and request for comments.

SUMMARY: The Peace Corps will submit the following information collection request to the Office of Management and Budget (OMB) for approval. In compliance with the Paperwork Reduction Act of 1995 (44 U.S.C. Chapter 35), the Peace Corps invites the general public to comment on this request for approval of a new proposed information collection, Peace Corps Post Service Survey (OMB Control Number 0420-pending. This process is conducted in accordance with 5 CFR 1320.10.

DATES: Submit comments on or before December 28, 2015.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA Officer, Peace Corps, 1111 20th Street NW., Washington, DC 20526, (202) 692-1236, or email at pcfr@peacecorps.gov. Copies of available documents submitted to OMB may be obtained from Denora Miller.

SUPPLEMENTARY INFORMATION:

Title: Post Service Survey.

OMB Control Number: 0420-XXXX.

Type of Request: New.

Affected Public: Individuals.

Respondents Obligation to Reply: Voluntary.

Respondents: Returned Peace Corps Volunteers.

Burdent to the Public:

a. Estimated number of respondents: 12,000.

b. Estimated average burden per response: 5 minutes.

c. Frequency of response: One time.

d. Annual reporting burden: 1,000 hours.

e. Estimated annual cost to respondents: $0.00.

General description of collection: The Peace Corps Office Health Service (OHS) is interested in the satisfaction levels of Returned Peace Corps Volunteers (RPCVs) with the services received through the Post-Service Unit. In addition, OHS is interested in the various experiences that RPCVs have with the Federal Employees' Compensation Act (FECA) program so that OHS can better explain and assist RPCVs through the FECA application process. The information will be used by OHS to improve both our customer service as well as improve our ability to provide RPCVs with information related to the FECA system and the process by which RPCVs can apply and obtain benefits.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on November 20, 2015.
Denora Miller,
FOIA/Privacy Act Officer, Management.

[FR Doc. 2015-29998 Filed 11-24-15; 8:45 am]

BILLING CODE 6051-01-P